NUCLEAR REGULATORY COMMISSION

[NRC-2009-0263]

Draft Regulatory Guide: Comment Period Extension and Correction

AGENCY: Nuclear Regulatory Commission.

ACTION: Notice of Reissuance and Availability of Draft Regulatory Guide (DG)-1229; Comment Period Extension and Correction.

FOR FURTHER INFORMATION CONTACT: Aaron Szabo, U.S. Nuclear Regulatory Commission, Washington, DC 20555-0001, telephone: 301-415-1985 or e-mail: Aaron.Szabo@nrc.gov.

SUMMARY: On January 13, 2011, the U. S. Nuclear Regulatory Commission (NRC) published a notice in the Federal Register (76 FR 2425) announcing the reissuance and availability of Draft Regulatory Guide (DG)-1229, titled “Assuring the Availability of Funds for Decommissioning Nuclear Reactors.” This Federal Register notice stated that electronic copies of DG-1229 were available in the NRC's Agencywide Documents Access and Management System (ADAMS) (http://www.nrc.gov/reading-rm/adams.html), under Accession No. ML103350136 and that the regulatory analysis was available under ML103350166. The ADAMS accession numbers assigned to DG-1229 and noted in 76 FR 2425 are incorrect. Due to this error, the comment period has been extended to allow the public access the correct version.

SUPPLEMENTARY INFORMATION: The NRC issued a notice of reissuance and availability of DG-1229, “Assuring the Availability of Funds for Decommissioning Nuclear Reactors” on January 13, 2011. The ADAMS accession numbers for the regulatory analysis and the draft regulatory guide noted on page 2426 of volume 76, “further information” section were incorrect. The content should read “The regulatory analysis is available electronically under ADAMS accession number ML103400018” and “Electronic copies of DG-1229 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML103400008.” Due to this error, the public has been granted 10 additional days to comment on DG-1229. The comment submittal deadline is extended from the original March 14, 2011 deadline to March 24, 2011.

II. Further Information

The NRC staff is soliciting comments on DG-1229. Comments may be accompanied by relevant information or supporting data and should mention DG-1229 in the subject line. Comments submitted in writing or in electronic form will be made available to the public in their entirety through ADAMS.

ADDRESSES: You may submit comments by any one of the following methods. Please include Docket ID NRC-2009-0263 in the subject line of your comments. Comments submitted in writing or in electronic form will be posted on the NRC website and on the Federal rulemaking website Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal rulemaking Web site: Go to http://www.regulations.gov and search for documents filed under Docket ID NRC-NRC-2009-0263. Address questions about NRC dockets to Carol Gallagher 301-492-3668; e-mail Carol.Gallagher@nrc.gov.

Mail comments to: Cindy K. Bladey, Chief, Rules, Announcements, and Directives Branch (RADB), Office of Administration, Mail Stop: TWB-05-B01M, U.S. Nuclear Regulatory Commission, Washington, DC 20555-0001, or by fax to RADB at 301-492-3446.

You can access publicly available documents related to this notice using the following methods:

NRC's Public Document Room (PDR): The public may examine and copy for a fee publicly available documents at the NRC's PDR, Room O1-F21, One White Flint North, 11555 Rockville Pike, Rockville, Maryland 20852-2738.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Regulatory Analysis is available electronically under ADAMS Accession Number ML103400018.

Comments would be most helpful if received by March 24, 2011. Comments received after that date will be considered if it is practical to do so, but the NRC is able to ensure consideration only for comments received on or before this date. Although a time limit is given, comments and suggestions in connection with items for inclusion in guides currently being developed or improvements in all published guides are encouraged at any time.

Electronic copies of DG-1229 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML103400008.

Regulatory guides are not copyrighted, and Commission approval is not required to reproduce them.

Dated at Rockville, Maryland, this 14th day of January 2011.
For the Nuclear Regulatory Commission.
Edward O'Donnell,
Acting Chief, Regulatory Guide Development Branch, Division of Engineering, Office of Nuclear Regulatory Research.

[FR Doc. 2011-1478 Filed 1-24-11; 8:45 am]

BILLING CODE 7590-01-P